DEPARTMENT OF DEFENSE

Department of the Navy

Notice of Availability of the Final Environmental Impact Statement for the Disposal and Reuse of Naval Air Station Brunswick, ME

AGENCY: Department of the Navy, DoD.

ACTION: Notice.

SUMMARY: Pursuant to Section 102(2)(C) of the National Environmental Policy Act (NEPA) of 1969, as implemented by the Council on Environmental Quality Regulations (40 CFR Parts 1500-1508), the Department of the Navy (DoN) with the Federal Aviation Administration (FAA) acting as a cooperating agency, has prepared and filed the Final Environmental Impact Statement (EIS) evaluating the potential environmental consequences associated with the disposal and reuse of Naval Air Station (NAS) Brunswick, Maine. The DoN is required to close NAS Brunswick per Public Law 101-510, the Defense Base Closure and Realignment Act of 1990, as amended in 2005.

FOR FURTHER INFORMATION CONTACT: Director, BRAC Program Management Office Northeast, 4911 South Broad Street, Building 679, Philadelphia, PA 19112-1303, telephone 215-897-4900, fax 215-897-4902, e-mail: david.drozd@navy.mil.

SUPPLEMENTARY INFORMATION: DoN acting as a lead agency with the FAA acting as a cooperating agency had prepared and filed the Notice of Intent for the EIS, published in the Federal Register on October 24, 2008, and the Draft EIS published in the Federal Register on May 5, 2010, in accordance with requirements of the National Environmental Policy Act (NEPA) of 1969 (42 U.S.C. Sections 4321-4345) and its implementing regulations (40 CFR Parts 1500-1508). The purpose of the proposed action is to dispose of NAS Brunswick, Maine in a manner consistent with the Brunswick Naval Air Station Reuse Master Plan as developed by the Brunswick Local Redevelopment Authority (BLRA) in December 2007. The DoN is required to close NAS Brunswick, Maine in accordance with Public Law 101-510, the Defense Base closure and Realignment Act of 1990, as amended in 2005. NAS Brunswick must be closed on or before September 15, 2011. This EIS has indentified and considered two alternatives for the disposal and reuse of NAS Brunswick, and the no-action alternative.

Alternative 1 includes the disposal of NAS Brunswick and its outlying properties by the DoN and its reuse in a manner consistent with the Brunswick Naval Air Station Reuse Master Plan. This alternative would maintain the existing airfield for private aviation purposes. It is anticipated that full build-out of the Plan would be implemented over a 20-year period. The Brunswick Naval Air Station Reuse Master Plan calls for the development of approximately 1,630 acres (51%) of the total base property. In addition, approximately 1,570 acres (49%) of the base would be dedicated to a variety of active and passive land uses, including recreation, open space, and natural areas. The plan reuses the existing airfield and its supporting infrastructure, provides a mix of land use types and densities, and preserves open space and natural areas. The DoN has recognized Alternative 1 as the preferred alternative.

Alternative 2 includes the disposal of NAS Brunswick and its outlying properties by the DoN and its reuse in a manner that features a higher density of residential and community mixed-use development and does not include reuse of the airfield. Similar to Alternative 1, this alternative includes a mix of land use types, preserves open space and natural areas. It is anticipated that full build-out of the high-density scenario would be implemented over a 20-year period. Under Alternative 2 there would be development of approximately 1,580 acres (49%) of the total base property. In addition, approximately 1,620 acres (51%) of the base would be dedicated to a variety of active and passive land uses, including recreation, open space, and natural areas. Although this alternative would have less developable acres than Alternative 1, the density of residential and community mixed-uses would be higher.

Alternative 3 is required by NEPA and evaluates the impacts at NAS Brunswick in the event that the property is not disposed. Under this alternative, existing mission and support operations would be relocated; however, the installation would be retained by the U.S. government in caretaker status. No reuse or redevelopment would occur at the facility. The Final EIS addresses environmental impacts of each alternative pertaining to the disposal and reuse of the NAS Brunswick property.

The Final EIS addresses any potential environmental impacts under each alternative associated with: water resources; air quality; biological resources; soils, topography, and geology; land use; noise exposure levels; socioeconomic resources; community facilities; transportation; environmental management; infrastructure; and cultural resources. The analyses includes direct and indirect impacts, and accounts for cumulative impacts from other foreseen Federal, State, or local activities at and around NAS Brunswick. The Final EIS has been distributed to various Federal, State, and local agencies, as well as other interested individuals and organizations. In addition, copies of the Final EIS have been distributed to the following libraries and publicly accessible facilities for public review:

1. Curtis Memorial Library, 23 Pleasant Street, Brunswick, ME 04011-2261.

2. Town of Brunswick—Department of Planning and Development. 28 Federal Street. Brunswick, ME 04011.

3. Topsham Public Library, 25 Foreside Road, Topsham, ME 04086-1832.

An electronic copy of the Final EIS is available for public viewing at http://www.bracpmo.navy.mil/. Federal, State, and local agencies, as well as interested parties, are invited to review this Final EIS. Comments can be submitted in writing or e-mailed to: Director, BRAC Program Management Office (PMO) Northeast, 4911 South Broad Street, Building 679, Philadelphia, PA 19112-1303, telephone 215-897-4900, fax 215-897-4902, e-mail: david.drozd@navy.mil.

Dated: November 16, 2010.
D. J. Werner,
Lieutenant Commander, Office of the Judge Advocate General, U.S. Navy, Federal Register Liaison Officer.

[FR Doc. 2010-29460 Filed 11-22-10; 8:45 am]

BILLING CODE 3810-FF-P